DEPARTMENT OF TRANSPORTATION

Federal Aviation Administration

14 CFR Part 97

[Docket No. 30480; Amdt. No. 3154]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective February 21, 2006. The compliance date for each SIAP and/or Weather Takeoff Minimums is specified in the amendatory provisions.

The incorporation by reference of certain publications listed in the regulations is approved by the Director of the Federal Register as of February 21, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 10, 2006.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 13 April 2006

Big Lake, AK, Big Lake, RNAV (GPS) RWY 7, Orig

Big Lake, AK, Big Lake, RNAV (GPS) RWY 25, Orig

Big Lake, AK, Big Lake, VOR RWY 7, Amdt 6

Burlington, CO, Kit Carson County, RNAV (GPS) RWY 15, Orig

Burlington, CO, Kit Carson County, GPS RWY 15, Orig, CANCELLED

Greeley, CO, Greeley-Weld County, RNAV (GPS) RWY 9, Orig

Greeley, CO, Greeley-Weld County, GPS RWY 9, Orig, CANCELLED

Miami, FL, Kendall-Tamiami Executive, RNAV (GPS) RWY 27L, Orig

Wabash, IN, Wabash Muni, NDB RWY 27, Amdt 12A, CANCELLED

Oscoda, MI, Oscoda-Wurtsmith, ILS OR LOC/DME RWY 24, Amdt 2

Lewistown, MT, Lewistown Muni, RNAV (GPS) RWY 7, Amdt 1

Miles City, MT, Frank Wiley Field, RNAV (GPS) RWY 4, Amdt 1

Fort Leonard Wood, MO, Waynesville Rgnl Arpt at Forney Field, RNAV (GPS) RWY 14, Orig,

Fort Leonard Wood, MO, Waynesville Rgnl Arpt at Forney Field, RNAV (GPS) RWY 32, Orig

Fort Leonard Wood, MO, Waynesville Rgnl Arpt at Forney Field, ILS OR LOC RWY 14, Orig

Fort Leonard Wood, MO, Waynesville Rgnl Arpt at Forney Field, GPS RWY 14, Orig-A, CANCELLED

Fort Leonard Wood, MO, Waynesville Rgnl Arpt at Forney Field GPS RWY 32, Orig-A, CANCELLED

Fort Leonard Wood, MO, Waynesville Rgnl Arpt at Forney Field LOC RWY 14, Orig-A, CANCELLED

York, NE, York Municipal, RNAV (GPS) RWY 17, Orig

York, NE, York Municipal, RNAV (GPS) RWY 35, Orig

York, NE, York Municipal, NDB RWY 17, Amdt 5

York, NE, York Municipal, NDB RWY 35, Amdt 4

York, NE, York Municipal, GPS RWY 17, Orig-B, CANCELLED

York, NE, York Municipal, GPS RWY 35, Orig-A, CANCELLED

Raleigh/Durham, NC, Raleigh-Durham Intl, ILS OR LOC RWY 23L, Amdt 7

Gwinner, ND, Gwinner-Roger Melroe Field, RNAV (GPS) RWY 16, Amdt 1

Gwinner, ND, Gwinner-Roger Melroe Field, RNAV (GPS) RWY 34, Amdt 1

Brookings, SD, Brookings Muni, RNAV (GPS) RWY 12, Orig

Brookings, SD, Brookings Muni, RNAV (GPS) RWY 30, Orig

Brookings, SD, Brookings Muni, GPS RWY 12, Orig, CANCELLED

Brookings, SD, Brookings Muni, GPS RWY 30, Orig, CANCELLED

Canadian, TX, Hemphill County, NDB RWY 4, Amdt 3, CANCELLED

Canadian, TX, Hemphill County, NDB RWY 22, Amdt 3, CANCELLED

Dumas, TX, Moore County, NDB OR GPS RWY 1, Amdt 3A, CANCELLED

Mineral Wells, TX, Mineral Wells, ILS OR LOC/DME RWY 31, Orig

The FAA published an Amendment in Docket No. 30478, Amdt No. 3152 to Part 97 of the Federal Aviation Regulations (Vol 71, FR No.26, pages 6345-7; dated Feb 8, 2006) under section 97.33 effective 16 MAR 2006, which is hereby rescinded:

Gwinner, ND, Gwinner-Roger Melroe Field, RNAV (GPS) RWY 16, Amdt 1

Gwinner, ND, Gwinner-Roger Melroe Field, RNAV (GPS) RWY 34, Amdt 1

The FAA published an Amendment in Docket No. 30478, Amdt No. 3152 to Part 97 of the Federal Aviation Regulations (Vol 71, FR No.26, pages 6345-7; dated Feb 8, 2006) under section 97.33 effective 13 APR 2006, which is hereby rescinded:

Chicago, IL, Chicago-Midway Intl, VOR/DME RNAV OR GPS RWY 22L, Amdt 3B, CANCELLED

Moline, IL, Quad City Intl, NDB RWY 9, Amdt 28, CANCELLED

Boston, MA, General Edward Lawrence Logan Intl, VOR/DME RNAV RWY 4R, Amdt 1 CANCELLED

Socorro, NM, Socorro Muni, NDB-B, Orig-A, CANCELLED

Idabel, OK, McCurtain County Regional, NDB-A, Orig, CANCELLED

[FR Doc. 06-1481 Filed 2-17-06; 8:45 am]

BILLING CODE 4910-13-P